DEPARTMENT OF AGRICULTURE

Forest Service

Notice of Extension of Public Comment Period for Draft Environmental Impact Statement: Rosemont Copper Project

AGENCY: Forest Service, USDA.

ACTION: Notice of extension.

SUMMARY: The USDA Forest Service, Coronado National Forest, is extending the public comment period for a draft environmental impact statement (DEIS) that discloses the potential impacts of a proposed action to construct; operate with concurrent reclamation; and close an open-pit mine about 30 miles southeast of Tucson, Arizona (Rosemont Copper Project). The U.S. Environmental Protection Agency (EPA) published a notice of availability (NOA) of the DEIS in the Federal Register on October 21, 2011 [76 FR 65509]. The NOA provided for a public comment period ending on January 18, 2012.

DATES: Because of a short-term, temporary malfunction of an electronic mailbox for receiving public comments on the DEIS, several individuals and organizations have requested an extension of the comment period. The Forest Service has decided to accommodate these requests; therefore, comments on the Rosemont Copper Project DEIS will now be accepted through January 31, 2012. Comments received or postmarked after January 31, 2012, will be considered to the extent practicable. Those parties who submit comments on or before this date will be eligible to appeal a decision on the project in accordance with 36 CFR part 215.

ADDRESSES: Copies of the DEIS are available for public review at the following locations:

* Nogales Ranger District: 303 Old Tucson Road, Nogales, Arizona.

* Coronado National Forest Supervisor's Office: 300 West Congress Street, 6th Floor, Tucson, Arizona.

Written comments on the DEIS are best submitted electronically by accessing http://RosemontEIS.us and following the link to “Comment Here”. Written comments may be mailed to: Rosemont Comments, P.O. Box 4207, Logan, UT 84323-4207.

Written comments may also be submitted by facsimile to (435) 750-8799 and by electronic mail (email) to CoronadoNF@RosemontEIS.us. The subject line of a facsimile or email should include the words “Rosemont Copper Project EIS”.

Oral comments can be made by calling toll-free (888) 654-6646.

FOR FURTHER INFORMATION CONTACT: For further information, please contact Ms. Melinda Roth, Coronado National Forest, at (520) 388-8300.

Dated: January 20, 2012.
Jim Upchurch,
Forest Supervisor, Coronado National Forest.

[FR Doc. 2012-1751 Filed 1-26-12; 8:45 am]

BILLING CODE 3410-11-P